SECURITIES AND EXCHANGE COMMISSION

[Release No. 34-84682; File No. SR-ISE-2018-95]

Self-Regulatory Organizations; Nasdaq ISE, LLC; Notice of Filing and Immediate Effectiveness of a Proposed Rule Change To Amend Supplementary Material .07 to ISE Rule 722

November 29, 2018.

Correction

In notice document 2018-26405 beginning on page 62938 in the issue of Thursday, December 6, 2018, make the following correction:

On page 62939, in the third column, the last line of the first full paragraph “December 26, 2018” should read “December 27, 2018”.

[FR Doc. C1-2018-26405 Filed 12-26-18; 8:45 am]

BILLING CODE 1301-00-D